DEPARTMENT OF AGRICULTURE

Submission for OMB Review; Comment Request

December 6, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Voluntary Bovine Johne's Disease Control Program.

OMB Control Number: 0579-NEW.

Summary of Collection: The Animal Health Protection Act of 2002 is the primary Federal law governing the protection of animal health. The law gives the Secretary of Agriculture broad authority to detect, control, or eradicate pests or diseases of livestock or poultry. The regulations in Title 9, Chapter 1, Subchapter C of the Code of Federal Regulations, govern the interstate movement of animals to prevent the dissemination of livestock and poultry diseases in the United States. Supplementing the regulations is the Uniform Program Standards for the Voluntary Bovine Johne's Disease Control Program that outlines the minimal national standards of the program providing specifics on administration of the program, program elements and procedures, and laboratory procedures.

Need and Use of the Information: The objective of this program is to provide minimum national standards for the control of Johne's disease. The program consists of three basic elements: (1) Education, to inform producers about the cost of Johne's disease and to provide information about management strategies to prevent, control, and eliminate it; (2) management, to work with producers to establish good management strategies on their farms; and (3) herd testing and classification, to help separate test-positive herds from test-negative herds. Failing to collect this information would greatly hinder the control of Johne's disease and possibly lead to increased prevalence.

Description of Respondents: State, Local or Tribal Government; Farms; Business or other for-profit

Number of Respondents: 50,602.

Frequency of Responses: Reporting: On occasion.

Total Burden Hours: 70,515.

Ruth Brown,
Departmental Information Collection Clearance Officer.

[FR Doc. E7-23937 Filed 12-10-07; 8:45 am]

BILLING CODE 3410-34-P